DEPARTMENT OF AGRICULTURE

Office of the Secretary

7 CFR Part 1

[Docket No. APHIS-2015-0008]

RIN 0579-AE68

Privacy Act Regulations; Delay of Effective Date

AGENCY: Office of the Secretary, U.S. Department of Agriculture (USDA).

ACTION: Final rule; delay of effective date.

SUMMARY: On January 10, 2025, we published a final rule that exempted a system of records, titled “Smuggling Interdiction and Trade Compliance (SITC) National Information Communication Activity System (SNICAS), USDA/APHIS-21,” from certain provisions of the Privacy Act. In addition, it also amended the Privacy Act regulations to reflect an administrative change to the list of system of records that are exempt from certain provisions of the Privacy Act. The final rule was scheduled to go into effect on February 10, 2025. This document delays the effective date until April 11, 2025.

DATES: As of February 7, 2025, the effective date for the final rule amending 7 CFR 1.123 published on January 10, 2025 (90 FR 1847), is delayed until April 11, 2025.

FOR FURTHER INFORMATION CONTACT: Ms. Tonya Woods, Director, Freedom of Information Act and Privacy Act Staff, 4700 River Road, Unit 50, Riverdale, MD 20737; (301) 851-4076.

SUPPLEMENTARY INFORMATION: In accordance with the memorandum of January 20, 2025, from the President to executive departments and agencies, titled “Regulatory Freeze Pending Review,” ¹ this action delays the effective date of the rule, “Privacy Act Regulations,” published in the Federal Register on January 10, 2025 (90 FR 1847-1848; APHIS-2015-0008).²

¹ Available at https://www.whitehouse.gov/presidential-actions/2025/01/regulatory-freeze-pending-review/.

² To view the final rule, go to www.regulations.gov, and enter APHIS-2015-0008 in the Search field.

The final rule USDA's Privacy Act regulations in 7 CFR 1.123 to exempt a system of records, titled “Smuggling Interdiction and Trade Compliance (SITC) National Information Communication Activity System (SNICAS), USDA/APHIS-21,” from certain provisions of the Privacy Act in order to avoid interference with law enforcement functions. In addition, we updated the list of systems exempt from certain provisions of the Privacy Act in accordance with 5 U.S.C. 552a(k)(2) to reflect administrative changes as a result of a notice published in the Federal Register on November 16, 2001 (66 FR 57698-57700, Docket No. 99-024-1), announcing that USDA combined three system of records (Plant Protection and Quarantine Program-Regulatory Actions, USDA/APHIS-1; Veterinary Services Programs-Animal Quarantine Regulatory Actions, USDA/APHIS-3; and Veterinary Services Programs—Animal Welfare and Horse Protection Regulatory Actions, USDA/APHIS-4) into one system of record: Investigative and Enforcement Records Regarding Regulatory Activities, USDA/APHIS-1. The reason for combining the system of records was to bring all records concerning investigation and enforcement together. However, USDA's Privacy Act regulations were not amended to reflect this consolidation, which we proposed to rectify.

In this issue of the Federal Register, we are also publishing a delay of effective date for the exemptions in the system of records notice, “Smuggling Interdiction and Trade Compliance (SITC) National Information Communication Activity System (SNICAS), USDA/APHIS-21,” associated with this action.³

³ To view the notice's delay of effective date, go to www.regulations.gov, and enter APHIS-2014-0062 in the Search field.

This action is exempt from notice and comment under 5 U.S.C. 553 and is effective immediately upon publication today in the Federal Register, based on the good cause exceptions in 5 U.S.C. 553(b)(B) and 553(d)(3), respectively. Seeking public comment is impracticable, unnecessary, and contrary to the public interest. The delay in the effective date until April 11, 2025, is necessary to give Department officials the opportunity for further review and consideration of new regulation, consistent with the President's memorandum of January 20, 2025. Given the imminence of the effective date and the brief length of the delay of the effective date, seeking prior public comment on this delay would have been impractical, as well as contrary to the public interest in the orderly promulgation and implementation of regulations.

Done in Washington, DC, this 6th day of February 2025.
Michael Watson,
Administrator, Animal and Plant Health Inspection Service.

[FR Doc. 2025-02485 Filed 2-7-25; 8:45 am]

BILLING CODE 3410-34-P